DEPARTMENT OF TRANSPORTATION

Coast Guard

33 CFR Part 117

[CGD01-00-237]

Drawbridge Operation Regulations: Kennebec River, ME

AGENCY: Coast Guard, DOT.

ACTION: Notice of temporary deviation from regulations.

SUMMARY: The Commander, First Coast Guard District, has issued a temporary deviation from the drawbridge operation regulations for the Carlton Bridge, mile 14.0, across the Kennebec River between Bath and Woolwich, Maine. This deviation from the regulations allows the bridge owner to require at least a one-hour advance notice for bridge openings from 7:30 a.m. to 4:30 p.m., Monday through Friday, October 11, 2000 through November 15, 2000. This action is necessary to facilitate the safety of construction workers performing rehabilitation construction at the bridge.

DATES: This deviation is effective from October 11, 2000, through November 15, 2000.

FOR FURTHER INFORMATION CONTACT: John McDonald, Project Officer, First Coast Guard District, at (617) 223-8364.

SUPPLEMENTARY INFORMATION: The Carlton Bridge, at mile 14.0, across the Kennebec River has a vertical clearance in the closed position of 10 feet at mean high water and 16 feet at mean low water. The existing drawbridge operating regulations are listed at 33 CFR 117.525.

The bridge owner, Maine Department of Transportation (MDOT), requested a temporary deviation from the drawbridge operating regulations to facilitate the safety of construction workers performing rehabilitation repairs at the bridge. Sufficient time is needed to activate the operating machinery, and clear the bridge of construction workers and construction equipment.

This deviation to the operating regulations allows the owner of the Carlton Bridge to require at least a one-hour advance notice for bridge openings, from 7:30 a.m. to 4:30 p.m., Monday through Friday, October 11, 2000, through November 15, 2000.

The bridge owner did not provide the required thirty-day notice to the Coast Guard for this deviation; however, this deviation was approved because the repairs are necessary in order to keep the bridge operating and prevent an unscheduled closure due to component failure.

In accordance with 33 CFR 117.35(c), this work will be performed with all due speed in order to return the bridge to normal operation as soon as possible. This deviation from the operating regulations is authorized under 33 CFR 117.35.

Dated: October 23, 2000.
Gerald M. Davis,
Captain, U.S. Coast Guard, Acting Commander, First Coast Guard District.

[FR Doc. 00-28646 Filed 11-7-00; 8:45 am]

BILLING CODE 4910-15-P